NUCLEAR REGULATORY COMMISSION

[NRC-2021-0159]

Environmental Assessment and Finding of No Significant Impact of Morris Operation Decommissioning Funding Plans

AGENCY: Nuclear Regulatory Commission.

ACTION: Environmental assessment and Finding of No Significant Impact; issuance.

SUMMARY: The U.S. Nuclear Regulatory Commission (NRC) is publishing this notice regarding the issuance of a final Environmental Assessment (EA) and a Finding of No Significant Impact (FONSI) for its review and approval of the initial and updated decommissioning funding plans submitted by GE-Hitachi Nuclear Energy Americas, LLC, for the Morris Operation Independent Spent Fuel Storage Installation.

DATES: The final EA and FONSI referenced in this document are available on December 29, 2021.

ADDRESSES: Please refer to Docket ID NRC-2021-0159 when contacting the NRC about the availability of information regarding this document. You may obtain publicly available information related to this document using any of the following methods:

• Federal Rulemaking Website: Go to https://www.regulations.gov and search for Docket ID NRC-2021-0159. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Kristina L. Banovac, Office of Nuclear Material Safety and Safeguards, U.S. Nuclear Regulatory Commission, Washington, DC 20555-0001; telephone: 301-415-7116, email: Kristina.Banovac@nrc.gov.

SUPPLEMENTARY INFORMATION:

I. Introduction

The NRC is considering the approval of the initial and updated decommissioning funding plans (DFPs) submitted by GE-Hitachi Nuclear Energy Americas, LLC, (GEH) for the Morris Operation Independent Spent Fuel Storage Installation (ISFSI). The NRC staff has prepared a final Environmental Assessment (EA) and Finding of No Significant Impact (FONSI) determination for the initial and updated DFPs in accordance with the NRC regulations in part 51 of title 10 of the Code of Federal Regulations (10 CFR), “Environmental Protection Regulations for Domestic Licensing and Related Regulatory Functions,” which implements the National Environmental Policy Act of 1969, as amended (42 U.S.C. 4321, et seq.).

The NRC requires its licensees to plan for the eventual decommissioning of their licensed facilities prior to license termination. On June 17, 2011, the NRC published a final rule in the Federal Register amending its decommissioning planning regulations (76 FR 35512). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI. The NRC staff will later publish its financial analyses of the DFP submittals which will be available for public inspection in ADAMS.

II. Discussion

The table in this notice includes the ADAMS accession numbers for the final EA and FONSI determination for the Morris Operation ISFSI. The table also includes the ADAMS accession numbers for other relevant documents, including the initial and updated DFP submittals. For further details with respect to this action, see the NRC staff's final EA and FONSI determinations which are available for public inspection in ADAMS and at https://www.regulations.gov under Docket ID NRC-2021-0159. For additional direction on accessing information related to this document, see the ADDRESSES section of this document.

Finding of No Significant Impact
Facility | Morris operation ISFSI
Docket No | 72-01.
Licensee | GEH.
Proposed Action | The NRC's review and approval of GEH's initial and updated DFPs submitted in accordance with 10 CFR 72.30(b) and (c).
| Environmental Impact of Proposed Action The NRC staff has determined that the proposed action, the review and approval of GEH's initial and updated DFPs, submitted in accordance with 10 CFR 72.30(b) and (c), will not authorize changes to licensed operations or maintenance activities, or result in changes in the types, characteristics, or quantities of radiological or non-radiological effluents released into the environment from the ISFSI, or result in the creation of solid waste. Moreover, the approval of the initial and updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of GEH's initial and updated DFPs. The scope of the proposed action does not include, and will not result in, the review and approval of decontamination or decommissioning activities or license termination for the ISFSI. Therefore, the NRC staff determined that approval of the initial and updated DFPs for the Morris Operation ISFSI will not significantly affect the quality of the human environment, and accordingly, the staff has concluded that a FONSI is appropriate. The NRC staff further finds that preparation of an environmental impact statement is not required.
Available Documents | U.S. Nuclear Regulatory Commission. Environmental Assessment re: Final Rule: Decommissioning Planning (10 CFR parts 20, 30, 40, 50, 70, and 72; RIN 3150-AI55). February 2009. ADAMS Accession No. ML090500648.
| U.S. Nuclear Regulatory Commission. ESA Section 7 No Effect Determination for ISFSI DFP Reviews (Note to File), dated May 15, 2017. ADAMS Accession No. ML17135A062.
| U.S. Nuclear Regulatory Commission. Review of the Draft Environmental Assessment and Finding of No Significant Impact for the GE Morris Independent Spent Fuel Storage Installation Decommissioning Funding Plan, dated August 17, 2017. ADAMS Accession No. ML17226A160.
| U.S. Nuclear Regulatory Commission. Request for Additional Information Regarding GE-Hitachi's Decommissioning Funding Plan Update for Morris Independent Spent Fuel Storage Installation, dated February 28, 2018. ADAMS Package Accession No. ML18060A330.
| U.S. Nuclear Regulatory Commission. Conversation Record of April 6, 2021, call with GEH, dated April 12, 2021. ADAMS Accession No. ML21103A429.
| U.S. Nuclear Regulatory Commission. Review of the Draft EA and FONSI for the Morris Operation DFPs, dated April 27, 2021. ADAMS Accession No. ML21110A164.
| U.S. Nuclear Regulatory Commission. Request for Additional Information on Morris Operation Decommissioning Funding Plans, dated June 15, 2021. ADAMS Accession No. ML21167A332.
| U.S. Nuclear Regulatory Commission. Response to Illinois Emergency Management Agency Comments on the Draft EA and FONSI for the Morris Operation DFPs, dated July 8, 2021. ADAMS Accession No. ML21182A107.
| U.S. Nuclear Regulatory Commission. Final EA and FONSI for the GE-Hitachi Nuclear Energy Initial and Updated DFPs Submitted in Accordance with 10 CFR 72.30(b) and (c) for the Morris Operation ISFSI, dated December 21, 2021. ADAMS Accession No. ML21216A274.
| GE Hitachi Nuclear Energy. GNF-A Fuel Fabrication Facility & GEH Morris Operation DFPs, dated December 14, 2012. ADAMS Package Accession No. ML123520161.
| GE Hitachi Nuclear Energy. Updated GEH Morris Operation DFP, dated December 11, 2015. ADAMS Package Accession No. ML15345A190.
| GE Hitachi Nuclear Energy. GEH Response to NRC Request for Additional Information—Morris Operation DFP, dated March 26, 2018. ADAMS Accession No. ML18085A656.
| GE Hitachi Nuclear Energy. Updated GEH Morris Operation DFP, dated December 14, 2018. ADAMS Package Accession No. ML18348A613.
| GE Hitachi Nuclear Energy. Updated GEH Morris Operation (MO) DFP, dated March 6, 2020. ADAMS Accession No. ML20066K270.
| GE Hitachi Nuclear Energy. GEH Response to Request for Additional Information for Acceptance Review of the Morris Operation SNM-2500 DFP, dated April 21, 2021. ADAMS Package Accession No. ML21111A333.
| GE Hitachi Nuclear Energy. Updated GEH Morris Operation (MO) DFP, dated June 17, 2021. ADAMS Package Accession No. ML21168A257.
| Illinois Emergency Management Agency. Review of the Draft EA and FONSI for the Morris Operation DFPs, dated June 4, 2021. ADAMS Accession No. ML21166A206.
| Illinois Emergency Management Agency. Response to the U.S. Nuclear Regulatory Commission's Review of the Illinois Emergency Management Agency's Comments of the Draft EA and FONSI for the Morris Operation DFPs, dated July 25, 2021. ADAMS Accession No. ML21214A073.

Dated: December 22, 2021.
For the Nuclear Regulatory Commission.
Yoira Diaz-Sanabria,
Chief, Storage and Transportation Licensing Branch, Division of Fuel Management, Office of Nuclear Material Safety and Safeguards.

[FR Doc. 2021-28278 Filed 12-28-21; 8:45 am]

BILLING CODE 7590-01-P